FEDERAL COMMUNICATIONS COMMISSION

47 CFR Part 73

[FCC 04-116; MM Docket No. 89-120]

Radio Broadcasting Services; Cuba, Eldon, Lake Ozark, Northwye, and Waynesville, MO

AGENCY: Federal Communications Commission.

ACTION: Final rule; petition for reconsideration, dismissed.

SUMMARY: The Commission dismissed a petition for reconsideration filed by Lake Broadcasting, the former licensee, inter alia, of Station KBMX(FM), Eldon, Missouri. The Commission held that the petition for reconsideration, seeking to upgrade the class of the Eldon station, was moot because the revocation of its license had become final and because a federal appellate court ruled that no new proceedings regarding the revocation were warranted. See 67 FR 21182 (April 30, 2002).

DATES: Effective June 9, 2004.

FOR FURTHER INFORMATION CONTACT: Andrew J. Rhodes, Media Bureau, (202) 418-2180.

SUPPLEMENTARY INFORMATION: This is a synopsis of the Commission's Memorandum Opinion and Order in MM Docket No. 89-120, adopted May 20, 2004, and released May 26, 2004. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC 20554, telephone 202-863-2893, facsimile 202-863-2898, or via e-mail qualexint@aol.com. This document is not subject to the Congressional Review Act.

Federal Communications Commission.
Marlene H. Dortch,
Secretary.

[FR Doc. 04-13038 Filed 6-8-04; 8:45 am]

BILLING CODE 6712-01-P